DEPARTMENT OF STATE

[Public Notice 5879]

State-08 Educational and Cultural Exchange Program Records

SUMMARY: Notice is hereby given that the Department of State proposes to alter an existing system of records, State-08, pursuant to the Provisions of the Privacy Act of 1974, as amended (5 U.S.C.(r)), and the Office of Management and Budget Circular No. A-130, Appendix I. The Department's report was filed with the Office of Management and Budget on July 9, 2007.

It is proposed that the current system will retain the name “Educational and Cultural Exchange Program Records.” It is also proposed that due to the expanded scope of the current system, the altered system description will include revisions and/or additions to the following sections: System Location; Categories of Individuals covered by the System; Authority for Maintenance of the System; and Routine Uses of Records Maintained in the System, Including Categories of Users and Purposes of such Uses. Changes to the existing system description are proposed in order to reflect more accurately the Bureau of Educational and Cultural Exchange Program record-keeping system, the Authority establishing its existence and responsibilities, and the uses and users of the system.

Any persons interested in commenting on the altered system of records may do so by submitting comments in writing to Margaret P. Grafeld, Director; Office of Information Programs and Services; A/ISS/IPS; Department of State, SA-2; Washington, DC 20522-8100. This system of records will be effective 40 days from the date of publication, unless we receive comments that will result in a contrary determination.

The altered system description, “Educational and Cultural Exchange Program Records, State-08” will read as set forth below.

Dated: July 9, 2007.
Rajkumar Chellaraj,
Assistant Secretary for the Bureau of Administration, Department of State.

STATE-08

SYSTEM NAME:

Educational and Cultural Exchange Program Records.

SECURITY CLASSIFICATION:

Unclassified.

SYSTEM LOCATION:

Department of State; SA 44; 301 Fourth Street, SW.; Washington, DC 20547.

CATEGORIES OF INDIVIDUALS COVERED BY THE SYSTEM:

Applicants, recipients and prospective recipients of Educational and Cultural Exchange grants and programs; members of the J. William Fulbright Foreign Scholarship Board; and American Executive Secretaries of Fulbright Foundations and Commissions.

CATEGORIES OF RECORDS IN THE SYSTEM:

Biographic information; project descriptions; eval uations of the performances of former grantees; evaluations of performing artists who may be potential grantees; copies of press releases; new clippings; information related to the grant and related correspondence; academic transcripts; letters of reference; ratings by nongovernmental panel members; insurance vouchers and cards; medical clearance forms; travel itineraries; and confirmation letters.

AUTHORITY FOR MAINTENANCE OF THE SYSTEM:

5 U.S.C. 301 (Management of the Department of State); 22 U.S.C. 2651a (Organization of the Department of State); 22 U.S.C. 3921 (Management of service).

PURPOSE(S):

The information contained in the records of the Bureau of Educational and Cultural Affairs (ECA) is collected and maintained primarily to aid in the selection of individuals for educational and cultural exchange grants and programs, and for the administration of such grants and programs.

ROUTINE USES OF RECORDS MAINTAINED IN THE SYSTEM, INCLUDING CATEGORIES OF USERS AND PURPOSES OF SUCH USES:

The information in the Educational and Cultural Exchange Program Records is used by: ECA program officers for recordkeeping purposes; relatives when the information is required for the benefit of the subject; and peer review committees from cooperating agencies for the ranking and rating process. The information contained in this system will be used to: (a) Develop statistics for use in the operation of the exchange program; (b) Select individuals for the programs; (c) To advise former and current grantees and program participants of additional program and grant opportunities; (d) Provide information to the news media for promotion of the Fulbright program and to confirm status of grantees; and (e) Disclose information to officials of foreign governments and organizations in vetting the process and selection of participants. Also see the “Routine Uses” paragraph of the Prefatory Statement published in the Federal Register.

POLICIES AND PRACTICES FOR STORING, RETRIEVING, ACCESSING, RETAINING AND DISPOSING OF RECORDS IN THE SYSTEM:

STORAGE:

Electronic media and hard copy.

RETRIEVABILITY:

Individual name.

SAFEGUARDS:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

RETENTION AND DISPOSAL:

These records will be maintained until they become inactive, at which time they will be retired or destroyed in accordance with published records schedules of the Department of State and as approved by the National Archives and Records Administration. More specific information may be obtained by writing to the Director; Office of Information Programs and Services; SA-2; Department of State; 515 22nd Street, NW.; Washington, DC 20522-8100.

NOTIFICATION PROCEDURE:

Individuals who have reason to believe that the Bureau of Educational and Cultural Affairs might have records pertaining to themselves should write to the Director; Office of Information Programs and Services; SA-2; Department of State; 515 22nd Street, NW,; Washington, DC 20522-8100. The individual must specify that he/she wishes the Bureau of Educational and Cultural Affairs Records to be checked. At a minimum, the individual should include: name; date and place of birth; current mailing address and zip code; signature; and preferably his/her social security number; a brief description of the circumstances that caused the creation of the record, and the approximate dates which give the individual cause to believe that the Bureau of Educational and Cultural Affairs has records pertaining to him/her.

RECORD ACCESS AND AMENDMENT PROCEDURES:

Individuals who wish to gain access to or amend records pertaining to themselves should write to the Director; Office of Information Programs and Services (address above).

RECORD SOURCE CATEGORIES:

These records contain information obtained primarily from the individual who is the subject of these records, and from published material and other reference sources.

SYSTEMS EXEMPTED FROM CERTAIN PROVISIONS OF THE ACT:

None.

[FR Doc. E7-15686 Filed 8-9-07; 8:45 am]

BILLING CODE 4710-24-P